INTERNATIONAL TRADE COMMISSION

[Investigation No. 731-TA-638 (Third Review)]

Stainless Steel Wire Rod From India

Determination

On the basis of the record ¹ developed in the subject five-year review, the United States International Trade Commission (Commission) determines, pursuant to section 751(c) of the Tariff Act of 1930 (19 U.S.C. 1675(c)), that revocation of the antidumping duty order on stainless steel wire rod From India would be likely to lead to continuation or recurrence of material injury to an industry in the United States within a reasonably foreseeable time.²

¹ The record is defined in sec. 207.2(f) of the Commission's Rules of Practice and Procedure (19 CFR 207.2(f)).

² Commissioner David S. Johanson did not participate in this determination.

Background

The Commission instituted this review on July 1, 2011 (76 FR 38686) and determined on October 4, 2011, that it would conduct an expedited review (76 FR 64105, October 17, 2011).

The Commission transmitted its determination in this review to the Secretary of Commerce on January 4, 2012. The views of the Commission are contained in USITC Publication 4300 (January 2012), entitled Stainless Steel Wire Rod From India: Investigation No. 731-TA-638 (Third Review).

By order of the Commission.
Issued: January 4, 2012.
James R. Holbein,
Secretary to the Commission.

[FR Doc. 2012-176 Filed 1-9-12; 8:45 am]

BILLING CODE 7020-02-P